DEPARTMENT OF COMMERCE

National Oceanic and Atmospheric Administration

50 CFR Part 635

[I.D. 010903D]

Atlantic Highly Migratory Species (HMS); Atlantic Shark Management Measures

AGENCY: National Marine Fisheries Service (NMFS), National Oceanic and Atmospheric Administration (NOAA), Commerce.

ACTION: Rescheduling of public hearings; extension of comment period.

SUMMARY: Due to concern regarding the path of Hurricane Isabel, NMFS is canceling two public hearings that were previously published in the Federal Register on August 12, 2003, and scheduled for September 17, 2003, in Pawleys Island, SC and September 22, 2003, in Manteo, NC. The public hearings are rescheduled for October 1, 2003, in Manteo, NC, and October 2, 2003, in Pawleys Island, SC. These hearings are being held to receive comments from fishery participants and other members of the public regarding proposed shark regulations and draft Amendment 1 to the Fishery Management Plan for Atlantic Tunas, Swordfish and Sharks (Amendment 1). Due to rescheduling the hearings, NMFS is also extending the comment period of the proposed rule for Amendment 1, published in the Federal Register on August 1, 2003, from September 30, 2003, to October 3, 2003.

DATES: The public hearings will be held on:

1. Wednesday, October 1, 2003, from 7 - 9 p.m. in Manteo, NC, and

2. Thursday, October 2, 2003, from 7 - 9 p.m. in Pawleys Island, SC.

Comments on the proposed rule for Amendment 1, published at 68 FR 45196, August 1, 2003, must be received no later than 5 p.m., on October 3, 2003.

ADDRESSES: The public hearings will be held in:

1. North Carolina Aquarium, Roanoke Island, Airport Road, Manteo, NC 27954, and

2. Waccamaw Neck Branch Library, 24 Commerce Dr., Pawleys Island, SC 29585.

Written comments on this action should be mailed to Christopher Rogers, Chief, NMFS Highly Migratory Species Management Division, 1315 East-West Highway, Silver Spring, MD 20910; or faxed to (301) 713-1917. Comments will not be accepted if submitted via email or Internet. Copies of draft Amendment 1 can be obtained from the HMS website at: http://www.nmfs.noaa.gov/sfa/hmspg.html.

FOR FURTHER INFORMATION CONTACT: Karyl Brewster-Geisz, Heather Stirratt, or Chris Rilling at (301) 713-2347 or Greg Fairclough at (727) 570-5741.

SUPPLEMENTARY INFORMATION: The Atlantic shark fisheries are managed under the authority of the Magnuson-Stevens Fishery Conservation and Management Act. The Fishery Management Plan for Atlantic Tunas, Swordfish, and Sharks (HMS FMP), finalized in 1999, is implemented by regulations at 50 CFR part 635. On August 1, 2003 (68 FR 45196), NMFS published in the Federal Register a proposed rule that would amend some of the regulations in the HMS FMP. Complete descriptions of the measures, as well as the purpose and need for the proposed actions, are contained in the proposed rule and are not repeated here.

On August 12, 2003 (68 FR 47904), NMFS published in the Federal Register notice of six public hearings. Due to concern regarding the path of Hurricane Isabel, NMFS is canceling and rescheduling two of those public hearings. The hearing previously scheduled for September 17, 2003, in Pawleys Island, SC, is now scheduled for October 2, 2003, in Pawleys Island, SC (see DATES and ADDRESSES). The hearing previously scheduled for September 22, 2003, in Manteo, NC, is now scheduled for October 1, 2003, in Manteo, NC (see DATES and ADDRESSES). The schedule for the other public hearings remains unchanged.

Additionally, in order to incorporate these rescheduled hearings during the public comment period, NMFS is extending the public comment period on the proposed rule until 5 p.m. on October 3, 2003.

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

These meetings are physically accessible to people with disabilities. Requests for sign language interpretation or other auxiliary aids should be directed to Heather Stirratt, (301) 713-2347, at least 7 days prior to the hearing in question.

Dated: September 16, 2003.
Bruce C. Morehead,
Acting Director, Office of Sustainable Fisheries, National Marine Fisheries Service.

[FR Doc. 03-24113 Filed 9-17-03; 1:54 pm]

BILLING CODE 3510-22-S